DEPARTMENT OF TRANSPORTATION

Federal Motor Carrier Safety Administration

[Docket No. FMCSA-2007-27357]

Commercial Driver's License Advisory Committee

AGENCY: Federal Motor Carrier Safety Administration, DOT.

ACTION: Notice of meeting.

SUMMARY: This notice sets forth the schedule for an additional meeting of the Commercial Driver's License (CDL) Advisory Committee. Pursuant to section 4135 of the Safe, Accountable, Flexible, Efficient Transportation Equity Act: A Legacy for Users (SAFETEA-LU), the Secretary of Transportation established this advisory committee to study and address current impediments and foreseeable challenges to the commercial driver's license program's effectiveness and measures needed to realize the full safety potential of the commercial driver's license program. Members of the advisory committee include State motor vehicle administrators, organizations representing government agencies or officials, members of the Judicial Conference, representatives of the trucking industry, representatives of labor organizations, and safety advocates.

DATES: The meeting will be held on July 11-12, 2007.

Time: The meeting is scheduled to be conducted from 8:30 a.m. until 5 p.m. The meeting may end early or be extended based on the length of the discussions.

ADDRESSES: The committee's meetings are held at the Hilton Arlington, 950 North Stafford Street, Arlington, Virginia 22203. You may submit comments, identified by DOT DMS Docket Number FMCSA-2007-27357, by any of the following methods:

• Federal eRulemaking Portal: http://www.regulations.gov. Follow the instructions for submitting comments.

• Agency Web Site: http://dms.dot.gov. Follow the instructions for submitting comments on the DOT electronic docket site. NOTE: Due to the relocation of the U.S. Department of Transportation, the DOT electronic docket site will not be available between June 13 and June 17, 2007. During this time you may submit comments by one of the alternate methods listed.

• Fax: 1-202-493-2251.

• Mail: U.S. Department of Transportation, Docket Operations, M-30, West Building Ground Floor, Room W12-140, 1200 New Jersey Ave., SE., Washington, DC 20590.

• Hand Delivery: U.S. Department of Transportation, West Building Ground Floor, Room W12-140, 1200 New Jersey Ave., SE., Washington, DC 20590, between 9 a.m. and 5 p.m., Monday through Friday, except Federal holidays.

Instructions: All submissions must include the agency name and docket number (FMCSA-2007-27357). Note that all comments received will be posted without change to http://dms.dot.gov, including any personal information provided. Please see the Privacy Act heading for further information.

Docket: For access to the docket to read background documents or comments received, go to http://dms.dot.gov at any time or to U.S. Department of Transportation, West Building Ground Floor, Room W12-140, 1200 New Jersey Ave., SE., Washington, DC 20590, between 9 a.m. and 5 p.m., Monday through Friday, except Federal holidays.

Privacy Act: Anyone is able to search the electronic form for all comments received into any of our dockets by the name of the individual submitting the comment (or signing the comment, if submitted on behalf of an association, business, labor union, etc.). You may review DOT's complete Privacy Act Statement in the Federal Register published on April 11, 2000 (65 FR 19477) or you may visit http://dms.dot.gov.

FOR FURTHER INFORMATION CONTACT: Lloyd E. Goldsmith, Transportation Specialist, CDL Division, at (202) 366-2964 (lloyd.goldsmith@dot.gov), Federal Motor Carrier Safety Administration, 1200 New Jersey Avenue, SE., Washington, DC 20590.

SUPPLEMENTARY INFORMATION: On August 10, 2005, the President signed into law the Safe, Accountable, Flexible, Efficient Transportation Equity Act: A Legacy for Users (Title VI, Pub. L. 109-59). Section 4135 mandates the establishment of a Commercial Driver's License (CDL) Task Force to study and address current impediments and foreseeable challenges to the commercial driver's license program's effectiveness and measures needed to realize the full safety potential of the commercial driver's license program. The CDL program was established by the Commercial Motor Vehicle Safety Act (CMVSA) of 1986 (Title XII, Pub. L. 99-570).

To carry out this requirement, FMCSA formed an advisory committee, consistent with the standards of the Federal Advisory Committee Act (FACA). See 71 FR 69605, December 1, 2006. The notice requested applications from persons interested in serving as members of the CDL Advisory Committee and requested applications not later than January 2, 2007. After evaluating all applications received by due date, the Secretary of Transportation appointed the members of the committee.

The statutory timetable for this effort is short. Section 4132 of the SAFETEA-LU specifies that not later than 2 years after the date of enactment of this Act (e.g., by August 10, 2007), the Secretary, on behalf of the task force, shall complete a report of findings and recommendations for legislative, regulatory, and enforcement changes to improve the commercial drivers license program and submit the report to the Committee on Commerce, Science, and Transportation of the Senate and the Committee on Transportation and Infrastructure of the House of Representatives. To meet this deadline, FMCSA conducted a very compressed schedule of Committee meetings. The FMCSA held three meetings with public comment periods on March 20-22, 2007, April 17-19, 2007, and May 15-17, 2007.

The meetings of the committee were open to the public. As a general matter, the committee made one hour available for public comments on the Thursday of each meeting (March 22, April 19, and May 17) from 1-2 p.m.

This fourth meeting is being scheduled to provide the committee time to adequately consider the information presented at the first three meetings and to review a draft of the report being prepared on behalf of the committee. No new topics will be introduced at this fourth meeting. This meeting is open to the public but there will be no public comment period at this meeting. However, any person may submit written comments identified by FMCSA Docket number FMCSA-2007-27357 as listed under the ADDRESSES section of this notice. FMCSA will consider all comments received to the extent practicable.

Issued on: June 12, 2007.
William A. Quade,
Acting Associate Administrator, Enforcement and Program Delivery.

[FR Doc. E7-11864 Filed 6-19-07; 8:45 am]

BILLING CODE 4910-EX-P